DEPARTMENT OF HEALTH AND HUMAN SERVICES

Centers for Disease Control and Prevention

[CDC-2017-0048; Docket Number NIOSH-156-C]

Final Immediately Dangerous to Life or Health (IDLH) Value Profiles

AGENCY: National Institute for Occupational Safety and Health (NIOSH) of the Centers for Disease Control and Prevention (CDC), Department of Health and Human Services (HHS).

ACTION: Notice of availability.

SUMMARY: NIOSH announces the availability of the following four Immediately Dangerous to Life or Health (IDLH) Value Profile documents: Acetonitrile [CAS No. 75-05-8], Chloroacetonitrile [CAS No. 107-14-2], Methacrylonitrile [CAS No. 126-98-7], and Nitrogen dioxide [CAS No. 10102-44-0].

DATES: The final IDLH Value Profile documents were published on September 29, 2017.

ADDRESSES: These documents may be obtained at the following link: https://www.cdc.gov/niosh/idlh/default.html.

FOR FURTHER INFORMATION CONTACT: R. Todd Niemeier, MS, CIH, NIOSH, Education and Information Division (EID), Robert A. Taft Laboratories, 1090 Tusculum Ave., MS-C32, Cincinnati, OH 45226, phone 513/533-8166 (not a toll-free number), email: rbn4@cdc.gov.

SUPPLEMENTARY INFORMATION: On May 5, 2017, NIOSH published a request for public review in the Federal Register [82 FR 21239] on IDLH Value profiles. We did not receive public comments, but did receive peer and stakeholder comments. These comments received were reviewed and addressed where appropriate.

Frank Hearl,
Chief of Staff, National Institute for Occupational Safety and Health, Centers for Disease Control and Prevention.

[FR Doc. 2017-23665 Filed 10-30-17; 8:45 am]

BILLING CODE 4163-19-P